DEPARTMENT OF HEALTH AND HUMAN SERVICES

Administration for Children and Families

Notice of Public Comment on Tribal Consultation Sessions To Be Held on July 21, July 23, and July 31, 2008

AGENCY: Office of Head Start (OHS), Administration for Children and Families, HHS.

ACTION: Notice of Public Comment on Tribal Consultation Sessions to be held on July 21, July 23, and July 31, 2008.

SUMMARY: Pursuant to the Improving Head Start for School Readiness Act of 2007, Public Law 110-134, notice is hereby given of three one-day Tribal Consultation Sessions to be held between the Department of Health and Human Services, Administration for Children and Families, Office of Head Start leadership and the leadership of Tribal governments operating Head Start (including Early Head Start) programs. The purpose of these Consultation Sessions is to discuss ways to better meet the needs of Indian, including Alaska Native, children and their families, taking into consideration funding allocations, distribution formulas, and other issues affecting the delivery of Head Start services in their geographic locations [42.U.S.C. 9835, Section 640(l)(4)].

Dates & Locations:

July 21, 2008—Kansas City, Missouri.

July 23, 2008—Denver, Colorado.

July 31, 2008—Seattle, Washington.

FOR FURTHER INFORMATION CONTACT: Renée Perthuis, Acting Regional Program Manager, American Indian/Alaska Native Program Branch, Office of Head Start, e-mail reneeaian@acf.hhs.gov or (202) 260-1721. Register to attend one of these sessions online at http://www.hsnrc.org.

SUPPLEMENTARY INFORMATION: The Department of Health and Human Services would like to invite leaders of Tribal governments operating Head Start (including Early Head Start) programs to participate in a formal Consultation Session with OHS leadership. The Consultation Sessions will take place as follows:

July 21, 2008—Kansas City, Missouri.

July 23, 2008—Denver, Colorado.

July 31, 2008—Seattle, Washington.

Limited resources (fiscal, staff, and time constraints) preclude holding a Consultation Session in each ACF Region. These three Regions (VII, VIII, and X) have been selected in an attempt to accommodate the majority of Tribes operating Head Start and Early Head Start programs.

The purpose of the Consultation Sessions is to solicit input on ways to better meet the needs of Indian, including Alaska Native, children and their families, taking into consideration funding allocations, distribution formulas, and other issues affecting the delivery of Head Start services in their geographic locations. Specific topics will include policy, research, Head Start/Early Head Start conversion, program quality, and monitoring.

Tribal leaders and designated representatives interested in submitting written testimony or topics for the Consultation Session agenda should contact Renée Perthuis at reneeaian@acf.hhs.gov. Tribal leaders submitting testimony or topics should provide a brief description of the subject matter along with contact information for the proposed presenter.

The Consultation Sessions will be conducted with elected or appointed leaders of Tribal governments and their designated representatives [42.U.S.C. 9835, Section 640(l)(4)(A)]. Representatives from Tribal organizations and Native non-profit organizations are welcome to attend as observers. Those wishing to participate in the discussions must have a copy of a written resolution, voted on and approved by the Tribal government, which authorizes them to serve as a representative of the Tribe. This should be submitted not less than three days in advance of the Consultation Session to Renée Perthuis at 202-260-9336 (fax).

A detailed report of each Consultation Session will be prepared and made available within 90 days of each consultation to all Tribal governments receiving funds for Head Start (including Early Head Start) programs.

Dated: June 16, 2008.
Patricia Brown,
Acting Director, Office of Head Start.

[FR Doc. E8-14015 Filed 6-19-08; 8:45 am]

BILLING CODE 4184-01-P